NATIONAL CREDIT UNION ADMINISTRATION

Agency Information Collection Activities; Proposed Collection; Comment Request; Management Official Interlocks

AGENCY: National Credit Union Administration (NCUA).

ACTION: Notice and request for comment.

SUMMARY: NCUA, as part of a continuing effort to reduce paperwork and respondent burden, invites the general public and other Federal agencies to comment on an extension of a currently approved collection, as required by the Paperwork Reduction Act of 1995 (Pub. L. 104-13, 44 U.S.C. Chapter 35).

DATES: Written comments should be received on or before January 30, 2017 to be assured consideration.

ADDRESSES: Interested persons are invited to submit written comments on the information collection to Dawn Wolfgang, National Credit Union Administration, 1775 Duke Street, Alexandria, Virginia 22314-3428, Suite 5067; Fax No. 703-519-8579; or Email at PRAComments@NCUA.gov.

FOR FURTHER INFORMATION CONTACT: Requests for additional information should be directed to the address above.

SUPPLEMENTARY INFORMATION:

OMB Number: 3133-0152.

Title: Management Official Interlocks, 12 CFR part 711.

Abstract: The Depository Institution Management Interlocks Act (12 U.S.C. 3201-3208) (“Interlocks Act”) generally prohibits financial institution management officials from serving simultaneously with two unaffiliated depository institutions or their holding companies. The Interlocks Act exempts interlocking arrangements between credit unions and, therefore, in the case of credit unions, only restricts interlocks between credit unions and other institutions-banks and thrifts and their holdings. The collection of information under Part 711 is needed to provide evidence of compliance with the requirements of the Interlocks Act.

Type of Review: Extension of a previously approved collection.

Affected Public: Private Sector: Not-for-profit institutions.

Estimated No. of Respondents: 2.

Estimated No. of Responses per Respondent: 1.

Estimated Annual Responses: 2.

Estimated Burden Hours per Response: 3.

Estimated Total Annual Burden Hours: 6.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on November 22, 2016.

Dated: November 23, 2016.
Dawn D. Wolfgang,
NCUA PRA Clearance Officer.

[FR Doc. 2016-28657 Filed 11-28-16; 8:45 am]

BILLING CODE 7535-01-P